DEPARTMENT OF DEFENSE

Department of the Navy

Notice of Availability of Government-Owned Invention; Available for Licensing

AGENCY: Department of the Navy, DoD.

ACTION: Notice.

SUMMARY: The Department of the Navy hereby gives notice of the availability of exclusive or partially exclusive license to practice worldwide under the following pending patent. Any license granted shall comply with 35 U.S.C. 209 and 37 CFR Part 404. Applications will be evaluated utilizing the following criteria: (1) Ability to manufacture and market the technology; (2) manufacturing and marketing ability; (3) time required to bring technology to market and production rate; (4) royalties; (5) technical capabilities; and (6) small business status.

Patent application Serial Numbers 11/090,916 and PCT/US05/010061 entitled “ANTI-MUCOLYTIC AND ANTI-ELASTASE COMPOUNDS AND METHODS OF USE THEREOF” filed on March 24, 2005. The present inventions relate to the use of a compound containing a dithiol active site, preferably in reduced state, to induce, enhance and/or increase the liquefaction of mucus or sputum through mucolysis, and/or to inhibit elastase.

DATES: Applications for an exclusive or partially exclusive license may be submitted at any time from the date of this notice.

ADDRESSES: Submit application to the Office of Technology Transfer, Naval Medical Research Center, 503 Robert Grant Ave., Silver Spring, MD 20910-7500.

FOR FURTHER INFORMATION CONTACT: Dr. Charles Schlagel, Director, Office of Technology Transfer, Naval Medical Research Center, 503 Robert Grant Ave., Silver Spring, MD 20910-7500, telephone 301-319-7428 or e-mail at: schlagelc@nmrc.navy.mil.

Dated: January 6, 2006.
Eric McDonald,
Lieutenant Commander, Judge Advocate General's Corps, U.S. Navy, Federal Register Liaison Officer.

[FR Doc. E6-375 Filed 1-13-06; 8:45 am]

BILLING CODE 3810-FF-P